NATIONAL AERONAUTICS AND SPACE ADMINISTRATION

[Notice: (16-047)]

NASA Advisory Council; Institutional Committee; Meeting

AGENCY: National Aeronautics and Space Administration.

ACTION: Notice of meeting.

SUMMARY: In accordance with the Federal Advisory Committee Act, Public Law 92-463, as amended, the National Aeronautics and Space Administration announces a meeting of the Institutional Committee of the NASA Advisory Council (NAC). This Committee reports to the NAC.

DATES: Tuesday, July 26, 2016, 8:30 a.m.-5:00 p.m., Local Time; and Wednesday, July 27, 2016, 8:15 a.m.-10:00 a.m., Local Time.

ADDRESSES: Ohio Aerospace Institute, NASA Safety Center (NSC) Conference Room, 22800 Cedar Point Road, Cleveland, Ohio 44142.

FOR FURTHER INFORMATION CONTACT: Mr. Todd Mullins, Executive Secretary for the NAC Institutional Committee, NASA Headquarters, Washington, DC 20546; (202) 358-3831, or todd.mullins@nasa.gov.

SUPPLEMENTARY INFORMATION: The meeting will be open to the public up to the seating capacity of the room. This meeting is also available telephonically and by WebEx. You must use a touch-tone phone to participate in this meeting. Any person interested in joining the meeting may dial the toll free access number (844) 467-6272 or toll access number (720) 259-6462, and then the numeric participant passcode: 180093 followed by the # sign. If dialing in, please “mute” your telephone. To join via WebEx on July 26, the web link is https://nasa.webex.com/, the meeting number is 991 872 492 and the password is Meeting2016! (case sensitive). To join via WebEx on July 27, the link is https://nasa.webex.com/, the meeting number is 991 030 614 and the password is Meeting2016! (case sensitive).

The agenda for the meeting includes the following topics:

• NAC Institutional Committee Work Plan

• Business Systems Assessment Overview Status

• Business Systems Assessment Procurement Implementation Plan

• Business Systems Assessment Human Resources Implementation Plan

Attendees will be required to sign a register. It is imperative that the meeting be held on this date to accommodate the scheduling priorities of the key participants.

Patricia D. Rausch,
Advisory Committee Management Officer, National Aeronautics and Space Administration.

[FR Doc. 2016-16182 Filed 7-7-16; 8:45 am]

BILLING CODE 7510-13-P